DEPARTMENT OF STATE

[Public Notice 4885]

Update on Current Universal Postal Union Issues

AGENCY: Department of State.

ACTION: Notice of briefing.

The Department of State will host a briefing on Friday, November 19, 2004, to provide an update on current Universal Postal Union issues, including the results of the 23rd UPU Congress held in Bucharest, Romania from September 15 to October 5, 2004.

The briefing will be held from 1:30 p.m. until approximately 4:30 p.m., on November 19, in Room 1408 of the Department of State, 2201 C Street, NW., Washington, DC. The briefing will be open to the public up to the capacity of the meeting room of 50.

The briefing will provide information on the results of the UPU Congress and the upcoming January 2005 session of the UPU Postal Operations Council. Special attention will be paid to extra-territorial offices of exchange, terminal dues, and the creation of the Consultative Committee. Deputy Assistant Secretary of State Terry Miller will chair the briefing.

Entry to the Department of State building is controlled and will be facilitated by advance arrangements. In order to arrange admittance, persons desiring to attend the briefing should, no later than noon on November 19, 2004, notify the Office of Technical and Specialized Agencies, Bureau of International Organization Affairs, Department of State, preferably by fax, providing the name of the meeting and the individual's name, Social Security number, date of birth, professional affiliation, address and telephone number. The fax number to use is (202) 647-8902. Voice telephone is (202) 647-1044. This request applies to both government and non-government individuals.

All attendees must use the main entrance of the Department of State at 22nd and C Streets, NW. Please note that under current security restrictions, C Street is closed to vehicular traffic between 21st and 23rd Streets. Taxis may leave passengers at 21st and C Streets, 23rd and C Streets, or 22nd Street and Constitution Avenue. One of the following means of identification will be required for admittance: any U.S. driver's license with photo, a passport, or any U.S. Government agency identification card.

Questions concerning the briefing may be directed to Mr. Dennis Delehanty at (202) 647-4197 or via e-mail at delehantydm@state.gov.

Dated: October 28, 2004.
Dennis M. Delehanty,
Director for Postal Affairs, Department of State.

[FR Doc. 04-24651 Filed 11-3-04; 8:45 am]

BILLING CODE 4710-19-P